DEPARTMENT OF HOMELAND SECURITY

Coast Guard

[Docket No. USCG-2014-0975]

Notice of a Public Meeting To Prepare for the Twenty-third Session of the Assembly of the International Mobile Satellite Organization

AGENCY: Coast Guard, DHS.

ACTION: Notice of public meeting.

SUMMARY: The U.S. Coast Guard will hold a public meeting on subject matters that will be addressed at the Twenty-third Session of the Assembly of the International Mobile Satellite Organization.

DATES: A public meeting will be held on Thursday, November 13, 2014, from 1:30 p.m. to 2 p.m.

ADDRESSES: The meeting will be held at the headquarters of the Radio Technical Commission for Maritime Services in Suite 605, 1611 New Kent Street, Arlington, Virginia 22209.

FOR FURTHER INFORMATION CONTACT: Larry S. Solomon at (202)475-3556 or by email at larry.s.solomon@uscg.mil.

SUPPLEMENTARY INFORMATION: The purpose of this public meeting is to prepare for the Twenty-third Session of the International Mobile Satellite Organization (IMSO) Assembly to be held on November 25-28, 2014 at the headquarters of the International Maritime Organization in London, United Kingdom. The primary topics that will be considered at the public meeting include:

• Oversight and performance of the Global Maritime Distress and Safety System; and, issues relating to the oversight of potential new GMDSS providers;

• Oversight, performance, audits, charging formulas and proposals for the Long Range Identification and Tracking System;

• Appointment of a new Director General of IMSO and proposed revisions to the functions of the Director General;

• Directorate matters and review of restructuring the Directorate; and

• Financial matters, including arrangements for the development, endorsement and agreement of IMSO budgets and business plans.

Members of the public may attend this meeting up to the seating capacity of the room. No advance notification is necessary. The Radio Technical Commission for Maritime Services Headquarters building is accessible by public transportation, and privately owned conveyance. Public parking in the vicinity of the building is readily available.

Members of the public are encouraged to participate and join in discussions, subject to the discretion of the moderator. Persons wishing to make formal presentations should provide advance notice to Larry S. Solomon at (202) 475-3556 or by email at larry.s.solomon@uscg.mil as soon as possible.

Dated: October 29, 2014.
F. J. Sturm,
U.S. Coast Guard, Acting Director of Commercial Regulations and Standards.

[FR Doc. 2014-26187 Filed 11-3-14; 8:45 am]

BILLING CODE 9110-04-P